DEPARTMENT OF COMMERCE

National Oceanic and Atmospheric Administration

RIN: 0648-XX89

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, August 16-19, 2010.

DATES: The Council will begin its plenary session at 8 a.m. on Wednesday, August 18 continuing through Thursday, August 19, 2010. The Council's Advisory Panel (AP) will begin at 8 a.m., Tuesday, August 17 and continue through Wednesday, August 18, 2010. The Scientific and Statistical Committee (SSC) will begin at 8 a.m. on Monday, August 16 and continue through Tuesday, August 17, 2010. All meetings are open to the public, except executive sessions.

ADDRESSES: The meetings will be held at the Hotel Captain Cook, 939 West 5th Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council and its Advisory Committees is to review the Draft Steller Sea Lion Biological Opinion. The Council may take action as appropriate on any of the issues identified.

The Agenda is subject to change, and the latest version will be posted at http://www.alaskafisheries.noaa.gov/npfmc/

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: July 23, 2010.
Tracey L. Thompson,
Acting Director, Office of Sustainable Fisheries, National Marine Fisheries Service.

[FR Doc. 2010-18457 Filed 7-27-10; 8:45 am]

BILLING CODE 3510-22-S